DEPARTMENT OF HOMELAND SECURITY

Coast Guard

[USCG-2007-0171]

Great Lakes Pilotage Advisory Committee; Vacancies

AGENCY: Coast Guard, DHS.

ACTION: Request for applications.

SUMMARY: The Coast Guard seeks applications for membership on the Great Lakes Pilotage Advisory Committee (GLPAC). GLPAC provides advice and makes recommendations to the Secretary on a wide range of issues related to pilotage on the Great Lakes, including the rules and regulations that govern the registration, operating requirements, and training policies for all U.S. registered pilots. The Committee also advises on matters related to ratemaking to determine the appropriate charge for pilot services on the Great Lakes.

DATES: Application forms should reach us on or before June 16, 2008.

ADDRESSES: You may request an application form by writing to Commandant (CG-54121), U.S. Coast Guard, 2100 Second Street, SW., Washington, DC 20593-0001; by calling 202-372-1532; or by faxing 202-372-1929. Send your application in written form to the above street address. This notice and the application form are available on the Internet at http://dms.dot.gov.

FOR FURTHER INFORMATION CONTACT: Mr. Rajiv Khandpur, Executive Director of GLPAC, or Mr. John Bobb, Assistant to the Executive Director, telephone 202-372-1532, fax 202-372-1929.

SUPPLEMENTARY INFORMATION: The Great Lakes Pilotage Advisory Committee (GLPAC) is a Federal advisory committee under 5 U.S.C. App. (Pub. L. 92-463). It advises the Secretary on a wide range of issues related to pilotage on the Great Lakes.

GLPAC meets at least once a year at Coast Guard Headquarters, Washington, DC, or another location selected by the Coast Guard. It may also meet for extraordinary purposes. Its working groups may meet to consider specific problems as required.

One appointment for the vacancy will be made from applicants representing the interests of vessel operators that contract for Great Lake pilotage services. To be eligible, applicants should have particular expertise, knowledge, and experience regarding the regulations and policies on the pilotage of vessels on the Great Lakes, and at least 5 years practical experience in maritime operations. GLPAC members serve for a term of 3 years and may be reappointed for one additional term. All members serve at their own expense but receive reimbursement for travel and per diem expenses from the Federal Government.

In support of the policy of the Coast Guard on gender and ethnic diversity, we encourage qualified women and members of minority groups to apply.

Dated: February 8, 2008.
W.A. Muilenburg,
Captain, U.S. Coast Guard, Office of Waterways Management.

[FR Doc. E8-3078 Filed 2-19-08; 8:45 am]

BILLING CODE 4910-15-P